DEPARTMENT OF ENERGY

Federal Energy Regulatory Commission

[Project No. 13680-000]

Bryant Mountain LLC; Notice of Preliminary Permit Application Accepted for Filing and Soliciting Comments, Motions To Intervene, and Competing Applications

May 17, 2010.

On March 1, 2010, Bryant Mountain LLC filed an application for a preliminary permit, pursuant to section 4(f) of the Federal Power Act, proposing to study the feasibility of the Bryant Mountain Hydroelectric Pumped Storage Project. The sole purpose of a preliminary permit, if issued, is to grant the permit holder priority to file a license application during the permit term. A preliminary permit does not authorize the permit holder to perform any land-disturbing activities or otherwise enter upon lands or waters owned by others without the owners' express permission.

The proposed project would consist of the following developments:

Upper Reservoir

(1) An enlargement of the existing Pope Reservoir having a surface area of 550 acres and a storage capacity of 60,00075 acre-feet and normal water surface elevation of 5500 feet mean sea level; (2) an earthen dam approximately 4,000 feet long and 310 feet high at its maximum section; (3) an overflow spillway and outlet facility to release water into the stream below the dam; and (4) intake facilities for the power tunnel with facilities to store additional water to provide black start capability.

Lower Reservoir

(1) Will have a surface area of 1,480 acres and a storage capacity of 110,000 acre-feet and normal water surface elevation of 4,220 feet mean sea level; (2) an earthen dam approximately 21,500 feet long and 135 feet high at its maximum section.

Powerhouse

(1) A partial or entirely subterranean structure adjacent to the lower reservoir; and (2) will contain five 250 MW pump-turbine units.

Power Tunnels

(1) A low pressure power tunnel; (2) a surge shaft; (3) a power shaft; and (4) and a high pressure tunnel.

Transmission Lines

(1) 230 kV or 550 kV transmission lines with interconnect with the Pacific Northwest—California Intertie at the Main Substation.

Applicant Contact: David W. O'Keefe, Project Manager, 1325 Gwinn Street E., Monmouth, OR 97361-1575 (503) 606-0347.

FERC Contact: Kelly Wolcott, 202-502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13680) in the docket number field to access the document. For assistance, contact FERC Online Support.

Kimberly D. Bose,
Secretary.

[FR Doc. 2010-12241 Filed 5-20-10; 8:45 am]

BILLING CODE 6717-01-P